DEPARTMENT OF THE INTERIOR

Bureau of Land Management

[LLES956000-L14200000-BJ0000-LXSITRST0000]

Eastern States: Filing of Plat of Survey

AGENCY: Bureau of Land Management, Interior.

ACTION: Notice of Filing of Plat of Survey; Michigan, Stayed.

SUMMARY: On Wednesday, January 12, 2011, there was published in the Federal Register, Volume 76, Number 8, on page 2133 a notice entitled “Eastern States: Filing of Plats of Survey”. In said notice was a plat depicting the dependent resurvey of a portion of the west boundary, a portion of the subdivisional line, and the survey of the subdivision of Section 18, of Township 15 North, Range 5 West, of the Michigan Meridian, in the State of Michigan, and was accepted September 22, 2010.

The official filing of the plat is hereby stayed, pending the correction of errors.

This first plat that was accepted September 22, 2010 will be canceled when the second plat accepted February 1, 2011 is official filed.

FOR FURTHER INFORMATION CONTACT: Bureau of Land Management—Eastern States, 7450 Boston Boulevard, Springfield, Virginia 22153. Attn: Cadastral Survey.

Dated: February 1, 2011.
Dominica Van Koten,
Chief Cadastral Surveyor.

[FR Doc. 2011-2676 Filed 2-7-11; 8:45 am]

BILLING CODE 4310-GJ-M